DEPARTMENT OF LABOR

Employment and Training Administration

[TA-W-53,150]

Rayovac Corporation, Manufacturing Division, Fennimore, Wisconsin; Amended Certification Regarding Eligibility To Apply for Worker Adjustment Assistance and Alternative Trade Adjustment Assistance

In accordance with section 223 of the Trade Act of 1974 (19 U.S.C. 2273), and under section 246 of the Trade Act of 1974, as amended, the Department of Labor issued a Certification of Eligibility to Apply for Worker Adjustment Assistance and Alternative Trade Adjustment Assistance on November 20, 2003, applicable to workers of Rayovac Corporation, Manufacturing Division, located in Fennimore, Wisconsin. The notice will soon be published in the Federal Register.

At the request of the State Agency, the Department reviewed the certification for workers of the subject firm. The workers produce batteries.

The review shows that all workers of Rayovac Corporation, Fennimore, Wisconsin, were previously certified eligible to apply for adjustment assistance under petition number TA-W-39,005, which expired on April 17, 2003.

Therefore, in order to avoid an overlap in worker group coverage, the Department is amending the October 2, 2003 impact date established for TA-W-53,150, to read April 18, 2003.

The amended notice applicable to TA-W-53,150 is hereby issued as follows:

All workers of Rayovac Corporation, Manufacturing Division, Fennimore, Wisconsin, who became totally or partially separated from employment on or after April 18, 2003, through November 20, 2005, are eligible to apply for adjustment assistance under section 223 of the Trade Act of 1974, and are also eligible to apply for alternative trade adjustment assistance under section 246 of the Trade Act of 1974, as amended.

Signed in Washington, DC, this 10th day of December, 2003.
Linda G. Poole,
Certifying Officer, Division of Trade Adjustment Assistance.

[FR Doc. 04-302 Filed 1-6-04; 8:45 am]

BILLING CODE 4510-30-P